Title 3—

The President

Proclamation 10000 of March 30, 2020

National Doctors Day, 2020

By the President of the United States of America

A Proclamation

Our Nation is tremendously grateful for all Americans who have chosen the noble profession of healing and caring for others. This is especially true as our extraordinary doctors and other talented medical professionals have collectively risen to the challenge of combating the coronavirus pandemic in communities large and small across the United States. This year in particular, on National Doctors Day, we recognize the remarkable men and women who treat their fellow Americans, find cures for the diseases and illnesses we face, and never waver in their efforts to treat every patient with the dignity, respect, and empathy they deserve.

As our Nation continues to combat the novel coronavirus, the tireless work and dedication of our medical and healthcare professionals is evident in the hospitals and treatment centers where they care for the sick, inside the labs and research facilities where vaccines and treatments are being developed, and from the podiums where they have continuously reassured and informed the American people. These brave patriots on the frontlines of the war against this invisible enemy are the most talented, innovative, and hardworking medical professionals in the world. Thanks to their incredible, life-saving work, no country is better prepared to fight this pandemic than the United States, and we remain confident that their steadfast resolve will see our Nation through to victory over this disease.

This National Doctors Day, we express our immense gratitude to the men and women who are caring for and treating patients across our country and whose commitment to serving others has never been clearer. Their contributions to the health and well-being of every American are immeasurable. As one Nation, we pray for their continued health and strength, and we ask God to bless them with the wisdom and resolute spirit to care for all those who need healing.

NOW, THEREFORE, I, DONALD J. TRUMP, President of the United States of America, by virtue of the authority vested in me by the Constitution and the laws of the United States, do hereby proclaim March 30, 2020, as National Doctors Day. I call upon the people of the United States to observe this day with appropriate ceremonies and activities.

IN WITNESS WHEREOF, I have hereunto set my hand this thirtieth day of March, in the year of our Lord two thousand twenty, and of the Independence of the United States of America the two hundred and forty-fourth.

[FR Doc. 2020-07091

Filed 4-1-20; 11:15 am]

Billing code 3295-F0-P